DEPARTMENT OF HOMELAND SECURITY

Transportation Security Administration

[Docket No. TSA-2003-14702]

TSA Enforcement Docket Transfer and Change of Address

AGENCY: Transportation Security Administration, DHS.

ACTION: Notice.

SUMMARY: The Transportation Security Administration (TSA) is transferring the TSA Civil Enforcement Docket from TSA's Headquarters in Arlington, Virginia, to the Docketing Center, Office of Administrative Law Judges, United States Coast Guard (USCG ALJ Docketing Center) in Baltimore, Maryland. Accordingly, this document provides the new address for the TSA Civil Enforcement Docket at the USCG ALJ Docketing Center. This transfer and new address are effective August 22, 2006.

DATES: Effective August 22, 2006.

FOR FURTHER INFORMATION CONTACT: Christine Rosenquist, Enforcement Division Paralegal, Office of the Chief Counsel, TSA-2, Transportation Security Administration, 601 South 12th Street, Arlington, VA 22202-4220; Telephone: (571) 227-3582; Facsimile: (571) 227-1380; E-mail: christine.rosenquist@dhs.gov.

SUPPLEMENTARY INFORMATION:

Availability of Document

You can get an electronic copy using the Internet by:

(1) Searching the Department of Transportation's electronic Docket Management System (DMS) Web page (http://dms.dot.gov/search);

(2) Accessing the Government Printing Office's Web page at http://www.gpoaccess.gov/fr/index.html; or

(3) Visiting TSA's Security Regulations Web page at http://www.tsa.gov and accessing the link for “Research Center” at the top of the page.

In addition, copies are available by writing or calling the individual in the FOR FURTHER INFORMATION CONTACT section. Make sure to identify the docket number of this action.

Background

The TSA Civil Enforcement Docket contains the official TSA civil enforcement case materials for those enforcement actions in which an alleged violator of the Transportation Security Regulations (TSR) has requested a hearing. The TSA Civil Enforcement Docket has been maintained at TSA Headquarters in Arlington, Virginia. See 68 FR 58281 (Oct. 9, 2003).

TSA is transferring the TSA Civil Enforcement Docket from its headquarters in Arlington, Virginia, to the USCG ALJ Docketing Center in Baltimore, Maryland, effective on the date of publication of this document. The purpose of this transfer is to consolidate the functions of the TSA Civil Enforcement Docket with other aspects of the TSA civil enforcement case management, which are currently administered by the USCG Office of Administrative Law Judges under a reimbursable agreement with TSA. Under this agreement, the USCG Office of Administrative Law Judges presides over all TSA civil enforcement actions in which an alleged violator of the TSR has requested a hearing. The transfer of the TSA Civil Enforcement Docket to the USCG ALJ Docketing Center ensures that official TSA civil enforcement case materials in which a hearing has been requested will be maintained by the USCG, which administers other aspects of the TSA civil enforcement case management.

Address Change

Presently, the unrevised TSA Civil Enforcement Docket address in Arlington, Virginia, which this document changes, is contained in the following sections of 49 CFR part 1503:

• § 1503.5(b)(2)—Persons filing a formal complaint;

• § 1503.5(k)—Locations where official TSA records relating to the disposition of formal complaints are maintained;

• § 1503.5(k)(2)(C)(ii)—Location of formal complaint docket files or documents for persons with permission to review;

• § 1503.16(f)—Persons requesting a hearing in a TSA case;

• § 1503.209(b)—Persons filing an answer in a TSA case;

• § 1503.210(a)—Persons tendering documents for filing in a TSA case;

• § 1503.230(b)(2)(C)(ii)—Location of formal complaint docket files or documents for persons with permission to review; and

• § 1503.233(a)—Persons filing a notice of appeal of an initial decision.

Effective August 22, 2006, persons who desire to submit documents to the TSA Civil Enforcement Docket should address submissions to the following address instead of the address provided in 49 CFR part 1503: ALJ Docketing Center, U.S. Coast Guard, 40 S. Gay Street, Room 412, Baltimore, Maryland 21202-4022, ATTN: Enforcement Docket Clerk.

TSA will change this address in part 1503 when a final rule is published making further administrative and technical changes to TSA's regulations in 49 CFR parts 1500-1699 and will provide this new address in enforcement documents it sends to respondents. The USCG ALJ Docketing Center also will notify respondents in TSA civil enforcement actions in which an alleged violator of the TSR has requested a hearing of this transfer and the new address. Prior to TSA's revisions to the relevant sections of 49 CFR part 1503, any materials sent to the address listed in 49 CFR part 1503 will be forwarded to the Coast Guard docket address listed above.

Issued in Arlington, Virginia, on August 16, 2006.
Francine J. Kerner,
Chief Counsel.

[FR Doc. E6-13815 Filed 8-21-06; 8:45 am]

BILLING CODE 9110-05-P